DEPARTMENT OF ENERGY

Federal Energy Regulatory Commission

[Docket No. RP06-436-000]

Columbia Gas Transmission Corporation; Columbia Gulf Transmission Company; Crossroads Pipeline Company; Notice Requesting Temporary Waiver of Certain Tariff Provisions and NAESB Standards and Notice of Expedited Comment Period

July 18, 2006.

Take notice that on July 14, 2006, Columbia Gas Transmission Corporation, Columbia Gulf Transmission Company and Crossroads Pipeline Company (together referred to as the Pipelines) request temporary waiver of the following because of the relocation of the NiSource mainframe computers:

(1) Sections 2.8 (EBB Access requirements: Operations), 6.2 (Nominations) and 6.3 (Confirmation and Scheduling by Transporter) of the Pipelines' respective FERC Gas Tariffs;

(2) North American Energy Standards Board (NAESB) Standards 1.3.2, 1.3.3, 1.3.4, 1.3.8, 1.3.21, 1.3.37, 1.3.45 (nomination related standards), 2.3.6, 2.3.21, 2.3.40, 2.3.41, 2.3.42, 2.3.49 (flowing gas related standards), 5.3.31, 5.3.32, 5.3.33, 5.3.44, 5.3.45 (capacity release related standards); and

(3) Section 284.12 of the Commission's regulations (Standards for Pipeline Business Operations and Communications, 18 CFR 284.12 (2005)).

The Pipelines state that the relocation of its mainframe computers will cause all functions of its Electronic Bulletin Board (Navigator) to be unavailable for periods up to 48 hours beginning around 5 a.m. on the following days: Saturday, July 22, 2006; Saturday, August 12, 2006; Saturday, August 19, 2006 and Saturday and Sunday, September 2-3, 2006.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time July 19, 2006.

Magalie R. Salas,
Secretary.

[FR Doc. E6-11879 Filed 7-25-06; 8:45 am]

BILLING CODE 6717-01-P